DEPARTMENT OF HEALTH AND HUMAN SERVICES

Agency for Healthcare Research and Quality

Agency Information Collection Activities: Proposed Collection; Comment Request; Correction

AGENCY: Agency for Healthcare Research and Quality (AHRQ), Department of Health and Human Services.

ACTION: Notice, correction.

SUMMARY: The Agency for Healthcare Research and Quality published a correction document in the Federal Register of May 29, 2018 regarding AHRQ Seeking Input on Library of Patient-Centered Outcomes Research Resources. This document contained an error in the email address where comments should be submitted.

FOR FURTHER INFORMATION CONTACT: Carla Ladner at 301-427-1205 or AHRQ_Fed_Register@ahrq.hhs.gov.

Correction

In the correction to the Federal Register of May 29, 2018, in FR Doc 2018-11472, on page 1, line 29, correct the caption under Addresses to read: Electronic responses are preferred and should be sent to: PCORResources@ahrq.hhs.gov.

Dated: June 4, 2018.
Carla M. Ladner,
Correspondence Analyst/Federal Register Liaison—AHRQ.

[FR Doc. 2018-12312 Filed 6-7-18; 8:45 am]

BILLING CODE 4160-90-P